DEPARTMENT OF TRANSPORTATION

Federal Aviation Administration

Notice of Intent To Rule on Application 02-04-C-00-TLH To Impose and Use the Revenue From a Passenger Facility Charge (PFC) at Tallahassee Regional Airport. Tallahassee, FL

AGENCY: Federal Aviation Administration (FAA) DOT.

ACTION: Notice of intent to rule on application.

SUMMARY: The FAA proposes to rule and invites public comment on the application to impose and use the revenue from a PFC at Tallahassee Regional Airport under the provisions of the 49 U.S.C. 40117 and part 158 of the Federal Aviation Regulations (14 CFR part 158).

DATES: Comments must be received on or before May 16, 2002.

ADDRESSES: Comments on this application may be mailed or delivered in triplicate to the FAA at the following address: Orlando Airports District Office, Suite 400, 5950 Hazeltine National Drive, Orlando, Florida 32822.

In addition, one copy of any comments submitted to the FAA must be mailed or delivered to Mr. Kenneth Austin, Airport Director of the City of Tallahassee at the following address: Tallahassee Regional Airport, 3300 Capital Circle, SW, Suite 1, Tallahassee, Florida 32310.

Air carriers and foreign air carriers may submit copies of written comments previously provided to the City of Tallahassee under section 158.23 of part 158.

FOR FURTHER INFORMATION CONTACT: Mr. Bill Farris, Program Manager, Orlando Airports District Office, Suite 400, 5950 Hazeltine National Drive, Orlando Florida 32822, (407) 812-6331, extension 25. The application may be reviewed in person at this same location.

SUPPLEMENTARY INFORMATION: The FAA proposes to rule and invites public comment on the application to impose and use the revenue from a PFC at Tallahassee Regional Airport under the provisions of the 49 U.S.C. 40117 and part 158 of the Federal Aviation Regulations (14 CFR part 158).

On April 2, 2002, the FAA determined that the application to impose and use the revenue from a PFC submitted by City of Tallahassee was substantially complete within the requirements of section 158.25 of part 158. The FAA will approve or disapprove the application, in whole or in part, no later than July 16, 2002.

The following is a brief overview of the application.

Proposed charge effective date: October 1, 2002.

Proposed charge expiration date: October 1, 2006.

Level of the proposed PFC: $ 4.50.

Total estimated PFC revenue: $ 8,314,445.

Brief description of proposed project(s): Impose Only: Terminal Security Improvements, Crisis Command/Communications Center, Taxiway N Rehabilitation, Taxiway P Rehabilitation, General Aviation Taxiway Overlays, Interactive Training System Improvements, New General Aviation Central Apron Construction, General Aviation South Apron Rehabilitation, Terminal Apron Access, Terminal Apron Lighting Improvements, Automated Vehicle Identification System, Old Terminal Apron Rehabilitation, ADA Passenger Lift, Taxiway S Extension, Airport Stormwater Drainage Improvements, General Aviation Apron Lighting, ILS/GPS Installation; Impose and Use Terminal Second Floor Accessibility, Integrated Communications Systems, Airport Layout Plan Update, Security System Upgrade, Former Landfill Remediation, Air Carrier Taxiway Rehabilitation, Terminal Apron Security Fencing, Runway 9/27 Safety Area Improvements, Master Plan Update, Passenger Loading Bridges, Terminal Improvement Program (Multi-year), Runway 18/36 Safety Area Improvements, Terminal Apron Rehabilitation, Taxiway J Extension, Sinkhole Stabilization and Taxiway S Repair, Airside Perimeter/Service Road, Security Fencing and Gate Improvements, Taxiway J Rehabilitation and Widening, Electrical Vault Upgrade, Runway 9/27 Lighting Upgrade, General Aviation Access Taxiway R Construction, Air Cargo Apron Expansion, Runway 18/36 Shoulder Improvements, Security CCTV Camera System Rehabilitation and Improvements, Terminal Access Road, North Apron Overlay.

Class or classes of air carriers which the public agency has requested not be required to collect PFCs: non-scheduled/on-demand air carriers filing Form 1800-31.

Any person may inspect the application in person at the FAA office listed above under FOR FURTHER INFORMATION CONTACT and at the FAA regional Airports office located at: Federal Aviation Administration Southern Region Headquarters/ASO-600, 1701 Columbia Ave., College Park, Georgia 30337.

In addition, any person may, upon request, inspect the application, notice and other documents germane to the application in person at the City of Tallahassee.

Issued in Orlando, Florida on April 2, 2002.
John W. Reynolds, Jr.,
Acting Manager, Airports District Office.

[FR Doc. 02-9127 Filed 4-15-02; 8:45 am]

BILLING CODE 4910-13-M